DEPARTMENT OF COMMERCE

National Oceanic and Atmospheric Administration

RIN 0648-XH68

Gulf of Mexico Fishery Management Council; Public Meeting; Correction

AGENCY: National Marine Fisheries Service (NMFS), National Oceanic and Atmospheric Administration (NOAA), Commerce.

ACTION: Notice of a revision of a public meeting agenda.

SUMMARY: The Gulf of Mexico Fishery Management Council will convene a joint meeting of The Standing and Special Reef Fish SSCs (SSC).

DATES: The Joint Standing and Special Reef Fish SSC meeting will begin at 1:30 pm on Tuesday, May 27, 2008 and conclude by 3 pm on Thursday, May 29, 2008.

ADDRESSES: The meeting will be held at the Quorum Hotel, 700 N. Westshore Blvd., Tampa, FL 33609; telephone: (813) 289-8200.

Council address: Gulf of Mexico Fishery Management Council, 2203 North Lois Avenue, Suite 1100, Tampa, FL 33607.

FOR FURTHER INFORMATION CONTACT: Steven Atran, Population Dynamics Statistician; Gulf of Mexico Fishery Management Council; telephone: (813) 348-1630.

SUPPLEMENTARY INFORMATION: The original notice published in the Federal Register on May 6, 2008 (73 FR 24953). The notice adds the following agenda item to that notice:

Finally, the SSC will discuss the red snapper stock assessment update.

Copies of the agenda and other related materials can be obtained by calling (813) 348-1630.

All other previously-published information remains unchanged.

Dated: May 9, 2008.
Tracey L. Thompson,
Acting Director, Office of Sustainable Fisheries, National Marine Fisheries Service.

[FR Doc. E8-10714 Filed 5-13-08; 8:45 am]

BILLING CODE 3510-22-S